NATIONAL SCIENCE FOUNDATION

Proposal Review Panel for Physics; Notice of Meeting

In accordance with the Federal Advisory Committee Act (Pub., L. 92-463, as amended), the National Science Foundation announces the following meeting:

Name: Proposal Review Panel for the Division of Physics (1208) (V170894)—Site Visit.

Date and Time:

February 16, 2017; 8:00 a.m.-7:00 p.m.

February 17, 2017; 8:00 a.m.-1:00 p.m.

Place: University of Notre Dame, Notre Dame, IN 46556 (UND).

Type of Meeting: Part-Open.

Contact Person: Allena Opper, Program Director for Nuclear Precision Measurements, Division of Physics, National Science Foundation, 4201 Wilson Blvd., Room 1015, Arlington, VA 22230; Telephone: (703) 292-8958.

Purpose of Meeting: Site visit to provide an evaluation of the progress of the projects at the host site for the Division of Physics at the National Science Foundation.

Agenda

February 16, 2017; 8:00 a.m.-7:00 p.m.

8:00 a.m. Executive Session—Closed

8:30 a.m. Welcome Dean/VP

8:50 a.m. Introduction (Wiescher)

9:20 a.m. Anna Simon

9:45 a.m. Manoel Couder

10:10 a.m. Coffee Break

10:30 a.m. Dan Bardayan

10:55 a.m. Michael Wiescher

11:20 a.m. Ani Aprahamian

11:45 a.m. Executive Session—Closed

12:15 p.m. Lunch with grad students and post docs

1:30 p.m. Maxime Brodeur

1:55 p.m. Tan Ahn

2:20 p.m. Umesh Garg

2:45 p.m. Lab Tour/Poster Session/Coffee break

4:30 p.m. Phillippe Collon

4:55 p.m. Graham Peaslee

5:20 p.m. Micha Kilburn

5:45 p.m. Executive Session—Closed

7:00 p.m. Dinner

February 17, 2017; 8:00 a.m.-2:00 p.m.

8:00 a.m. Executive Session—Closed

8:30 a.m. Executive Session—Closed

9:00 a.m. Answer to questions

11:00 p.m. Executive Session—Closed

1:00 p.m. Close Out Session

Reason for Closing: Topics to be discussed and evaluated during closed portions of the site review will include information of a proprietary or confidential nature, including technical information and information on personnel. These matters are exempt under 5 U.S.C. 552b(c), (4) and (6) of the Government in the Sunshine Act.

Dated: January 18, 2017.
Crystal Robinson,
Committee Management Officer.

[FR Doc. 2017-01526 Filed 1-23-17; 8:45 am]

BILLING CODE 7555-01-P